DEPARTMENT OF AGRICULTURE

Animal and Plant Health Inspection Service

7 CFR Part 301

[Docket No. 03-077-1]

Treatments for Fruits and Vegetables

Correction

In proposed rule document 05-11460 beginning on page 33857 in the issue of Friday, June 10, 2005, make the following correction:

§305.31 [Corrected]

On page 33870, in §305.31(a), in the table, under the Dose (gray) heading, in the last entry, “300” should read “400”.

[FR Doc. C5-11460 Filed 6-17-05; 8:45 am]

BILLING CODE 1505-01-D

DEPARTMENT OF TRANSPORTATION

Federal Aviation Administration

14 CFR Part 71

[Docket No. FAA-2005-20056; Airspace Docket No. 05-AEA-1]

Amendment of Class E Airspace; Harrisburg, PA

Correction

In rule document 05-11329 appearing on page 33347 in the issue of Wednesday, June 8, 2005, make the following correction:

§ 71.1 [Corrected]

In the third column, in § 71.1, under the heading “AEA PA E5 Harrisburg, PA (Revised)”, in the fourth line, “70°07′49″ N” should read “40°07′49″ N”.

[FR Doc. C5-11329 Filed 6-17-05; 8:45 am]

BILLING CODE 1505-01-D